DEPARTMENT OF COMMERCE

National Oceanic and Atmospheric Administration

RIN 0648-XJ48

Marine Mammals; File No. 605-1904

AGENCY: National Marine Fisheries Service (NMFS), National Oceanic and Atmospheric Administration (NOAA), Commerce.

ACTION: Notice; receipt of application for amendment.

SUMMARY: Notice is hereby given that the Whale Center of New England (WCNE) (Mason Weinrich, Principal Investigator), P.O. Box 159, Gloucester, MA 01930, has requested an amendment to scientific research Permit No. 605-1904.

DATES: Written, telefaxed, or e-mail comments must be received on or before September 3, 2008.

ADDRESSES: The amendment request and related documents are available for review upon written request or by appointment in the following offices:

Permits, Conservation and Education Division, Office of Protected Resources, NMFS, 1315 East-West Highway, Room 13705, Silver Spring, MD 20910; phone (301)713-2289; fax (301)427-2521;

Northeast Region, NMFS, One Blackburn Drive, Gloucester, MA 01930-2298; phone (978)281-9300; fax (978)281-9394; and

Southeast Region, NMFS, 263 13th Avenue South, Saint Petersburg, Florida 33701; phone (727)824-5312; fax (727)824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 605-1904-01.

FOR FURTHER INFORMATION CONTACT: Amy Hapeman or Kristy Beard, (301)713-2289.

SUPPLEMENTARY INFORMATION: The subject amendment to Permit No. 605-1904, issued on February 21, 2008 (73 FR 10744) is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 605-1904 authorizes the permit holder to harass humpback (Megaptera novaengliae), fin (Balaenoptera physalus), and sei (Balaenoptera borealis) whales along the U.S. Atlantic coast during close approaches for vessel surveys, photo-identification, tracking, and incidental harassment annually. During approaches, researchers may suction-cup tag and/or biopsy sample whales greater than six months of age. A subset of approached humpback and fin whale calves three to six months of age may also be biopsy sampled. The original application submitted by the WCNE included a request to conduct research on North Atlantic right whales (Eubalaena glacialis). At the time of permit issuance, takes for right whales were not authorized. NMFS is now reviewing the right whale portion of the request as an amendment to Permit No. 605-1904. The WCNE requests authorization to harass up to 75 North Atlantic right whales annually during close vessel approaches for photo-identification, behavioral observation, and prey sampling. This work would continue long-term population monitoring to determine status and trends of this species in the North Atlantic. The amendment would be valid until the permit expires on February 15, 2013.

Concurrent with the publication of this notice in the Federal Register, NMFS is forwarding copies of this application to the Marine Mammal Commission and its Committee of Scientific Advisors.

Dated: July 29, 2008.
P. Michael Payne,
Chief, Permits, Conservation and Education Division, Office of Protected Resources, National Marine Fisheries Service.

[FR Doc. E8-17813 Filed 8-1-08; 8:45 am]

BILLING CODE 3510-22-S